DEPARTMENT OF JUSTICE

Notice of Motion To Amend Consent Decree Under the Clean Water Act

On September 6, 2016, the Department of Justice filed a stipulated motion to amend a Consent Decree with the United States District Court for the Western District of Washington in the lawsuit entitled United States v. Trident Seafoods Corporation, Civil Action No. 11-1616RSL (the United States and Trident Seafoods Corporation, jointly, the “Parties”), proposing to modify certain injunctive measures required under the Consent Decree entered in this matter on June 18, 2012, resolving Trident's alleged violations of the Clean Water Act (“CWA” or “Act”).

The Consent Decree (“CD”) requires, among other measures intended to reduce discharges of seafood processing wastes from multiple Trident processing facilities in Alaska, that Trident build a fishmeal plant at its North Naknek, Alaska facility and, upon operating the fishmeal plant for one year, to eliminate discharges from its seafood processing facility. The Parties only recently realized that the CD, as written, prohibits any discharge from Trident's processing facility, a result that cannot be achieved even by state-of-the-art practices. The proposed Amendment would allow the facility to discharge waste that cannot practically be captured using state-of-the-art controls, i.e., waste particles that pass through a 0.5 mm mesh screen. The proposed Amendment accurately reflects what the Parties intended at the time they reached settlement; employment of state-of-the-art discharge controls to achieve a discharge limit more stringent than that required by law. The Parties' failure to provide for this discharge in the original CD was inadvertent and the proposed Amendment corrects that oversight.

The publication of this notice opens a period for public comment on the proposed Amendment to the Consent Decree. Comments should be addressed to the Assistant Attorney General, Environment and Natural Resources Division, and should refer to United States v. Trident Seafoods Corporation, Civil Action No. 11-1616RSL., DJ Reference Number 90-5-1-1-2002/2.

All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, Consent Decree may be examined and downloaded at this Justice Department Web site: https://www.justice.gov/enrd/consent_decrees.html. We will provide a paper copy of the Amendment to the Consent Decree upon written request and payment of reproduction costs. Please mail your request and payment to: Consent Decree Library, U.S. DOJ—ENRD, P.O. Box 7611, Washington, DC 20044-7611.

Please enclose a check or money order for $2.75 (25 cents per page reproduction cost) payable to the United States Treasury.

Susan M. Akers,
Assistant Section Chief, Environmental Enforcement Section, Environment and Natural Resources Division.

[FR Doc. 2016-21864 Filed 9-9-16; 8:45 am]

BILLING CODE 4410-16-P